DEPARTMENT OF DEFENSE

Defense Acquisition Regulations System

48 CFR Part 252

[Docket DARS-2017-0001]

Defense Federal Acquisition Regulation Supplement: DFARS Subgroup to the DoD Regulatory Reform Task Force, Review of DFARS Solicitation Provisions and Contract Clauses

AGENCY: Defense Acquisition Regulations System, Department of Defense (DoD).

ACTION: Extension of comment period.

SUMMARY: In accordance with Executive Order 13777, “Enforcing the Regulatory Reform Agenda,” the DFARS Subgroup to the DoD Regulatory Reform Task Force is seeking input on Defense Federal Acquisition Regulation Supplement (DFARS) solicitation provisions and contract clauses that may be appropriate for repeal, replacement, or modification. The comment period is extended three weeks.

DATES: For the request for public comment published on June 20, 2017 (82 FR 28041), submit comments by September 11, 2017.

ADDRESSES: Submit comments identified by DFARS-RRTF-2017-01, using any of the following methods:

• Federal eRulemaking Portal: http://www.regulations.gov. Search for “DFARS-RRTF-2017-01.” Select “Comment Now” and follow the instructions provided to submit a comment. Please include “DFARS-RRTF-2017-01” on any attached documents.

• Fax: 571-372-6094.

• Mail: Defense Acquisition Regulations System, Attn: DFARS Subgroup RRTF, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Jennifer Johnson, telephone 571-372-6100; or Ms. Carrie Moore, telephone 571-372-6093.

SUPPLEMENTARY INFORMATION: On February 24, 2017, the President signed Executive Order (E.O.) 13777, “Enforcing the Regulatory Reform Agenda,” which established a Federal policy “to alleviate unnecessary regulatory burdens” on the American people. Section 3(e) of the E.O. 13777 calls on the Task Force to “seek input and other assistance, as permitted by law, from entities significantly affected by Federal regulations, including State, local, and tribal governments, small businesses, consumers, non-governmental organizations, trade associations” on regulations. On June 20, 2017, DoD solicited such input from the public to inform evaluation of the DFARS solicitation provisions and contract clauses by the Task Force's DFARS Subgroup. The comment period is extended three weeks from August 21, 2017, to September 11, 2017, to provide additional time for interested parties to provide input.

Although the agency will not respond to each individual comment, DoD may follow-up with respondents to clarify comments. DoD values public feedback and will consider all input that it receives. Furthermore, DoD may share inputs received in response to this notice with the “Section 809 Panel” (section809panel.org; SEC809@DAU.MIL) established under section 809 of the National Defense Authorization Act for Fiscal Year 2016, for the purpose of reviewing the acquisition regulations applicable to DoD with a view toward streamlining and improving the efficiency and effectiveness of the defense acquisition process and maintaining defense technology advantage.

Jennifer L. Hawes,
Editor, Defense Acquisition Regulations System.

[FR Doc. 2017-16057 Filed 7-31-17; 8:45 am]

BILLING CODE 5001-06-P